DEPARTMENT OF DEFENSE

Office of the Secretary

Veterans' Advisory Board on Dose Reconstruction; Meeting

AGENCY: Defense Threat Reduction Agency, DoD.

ACTION: Advisory Board Meeting Notice.

SUMMARY: Under the provisions of the Federal Advisory Committee Act of 1972 (5 U.S.C., Appendix, as amended), the Sunshine in the Government Act of 1976 (5 U.S.C. 552b, as amended), the Defense Threat Reduction Agency (DTRA), and the Department of Veterans Affairs (VA) announce the following advisory board meeting of the Veterans' Advisory Board on Dose Reconstruction (VBDR).

DATES: Friday, March 23, 2012, from 8 a.m. to 12 p.m. and from 1 p.m. to 6 p.m. and Saturday, March 24, 2012, from 9 a.m. to 12 p.m. The public is invited to attend. A public comment session is scheduled from 4 p.m. to 5 p.m. on Friday and from 9:30 a.m. to 10:20 a.m. on Saturday.

ADDRESSES: Embassy Suites Riverwalk Hotel, E. Houston Street, San Antonio, TX 78205.

FOR FURTHER INFORMATION CONTACT: The Veterans' Advisory Board on Dose Reconstruction Toll Free at 1-866-657-VBDR (8237). Additional information may be found at http://vbdr.org.

SUPPLEMENTARY INFORMATION:

Purpose of Meeting: To obtain, review, and evaluate information related to the Board's mission to provide guidance and review of the dose reconstruction and claims compensation programs for veterans of U.S.-sponsored atmospheric nuclear weapons tests from 1945-1962; veterans of the 1945-1946 occupation of Hiroshima and Nagasaki, Japan; and veterans who were prisoners of war in those regions at the conclusion of World War II. In addition, the advisory board will assist the VA and DTRA in communicating with the veterans. The meeting will also include public presentations regarding dose reconstruction efforts related to the Fukushima incident in Japan and the McMurdo Station in Antarctica.

Meeting Agenda: The meeting will open on Friday morning with a Call to Order from the Designated Federal Official. Dr. Charles Roadman, the VBDR Chairman will make opening remarks and will introduce the members of the Board. After introductions, the remainder of the morning will include the following briefings: “Review of Atomic Veterans Epidemiology Study” by Dr. John Boice; “Review of Atomic Veterans Demographic Study” by Dr. John Lathrop, “Review of the Navy's PM-3A (McMurdo Sound Nuclear Reactor) Dose Reconstruction Effort” by LCDR Greg Fairchild, USN; “Review of the DoD Population of Interest Dose Reconstruction from the Fukushima incident in Japan” by Dr. Gerald Falo, Dr. Steven Rademacher, and CDR James Cassata, USN, and an “Update on the Nuclear Test Personnel Review (NTPR) Dose Reconstruction Program”, by Dr. Paul Blake. The afternoon session will include additional briefings: “Update on the VA Radiation Claims Compensation Program for Veterans”, by Mr. Brad Flohr, “Presentation on the VA/DTRA/VBDR Atomic Veterans Communications Plan” by Mr. Jim Benson, VA, Mr. Richard Cole, DTRA and Mr. Kenneth Groves and “Overview of the VA's Office of Public Health” by Dr. Paul Ciminera. Next, the four active subcommittees established during the inaugural VBDR session will report on their activities since March 2011. These subcommittees consist of the following: Subcommittee on DTRA Dose Reconstruction Procedures; the Subcommittee on VA Claims Adjudication Procedures; the Subcommittee on Quality Management and VA Process Integration with DTRA Nuclear Test Personnel Review Program; and the Subcommittee on Communication and Outreach. The afternoon session also includes a one hour open public comment session. The remainder of the Friday afternoon meeting will be devoted to an overview discussion on the VBDR activities. The meeting will reconvene on Saturday morning with an introduction to the Special Session by the VBDR Chairman, Dr. Charles Roadman. The morning session includes an open public comment period and opportunities for discussion with VA and DTRA NTPR representatives. The Designated Federal Official will close the meeting at 12 p.m.

Meeting Accessibility: Pursuant to 5 U.S.C. 552b, as amended, and 41 CFR 102-3.140 through 102-3.165, and the availability of space, this meeting is open to the public. Seating is limited by the size of the meeting room. All persons must sign in legibly at the registration desk.

Written Statements: Pursuant to 41 CFR 102-3.105(j) and 102-3.140(c), interested persons may submit a written statement for consideration by the Veterans' Advisory Board on Dose Reconstruction. Written statements should be no longer than two type-written pages and must address the following: the issue, discussion, and recommended course of action for the VBDR. Supporting documentation may also be included as needed to establish the appropriate historical context and to provide any necessary background information.

Individuals submitting a written statement may submit their statement to the Board at 801 N. Quincy Street, Suite 700, Arlington, VA 22203, at any time. However, if a written statement is not received at least 10 calendar days prior to the meeting, which is the subject of this notice, then it may not be provided to or considered by the Veterans' Advisory Board on Dose Reconstruction until its next open meeting.

The Chairperson will review all timely submissions with the Designated Federal Officer, and ensure they are provided to members of the Veterans' Advisory Board on Dose Reconstruction before the meeting that is the subject of this notice. After reviewing the written comments, the Chairperson and the Designated Federal Officer may choose to invite the submitter of the comments to orally present his or her statements during the Public Comment session of this meeting or at a future meeting.

Public Comments: The March 23-24, 2012 meeting is open to the public. Two, approximately one-hour session will be reserved for public comments on issues related to the tasks of the Veterans' Advisory Board on Dose Reconstruction. Speaking time will be assigned on a first-come, first-served basis. The amount of time per speaker will be determined by the number of requests received, but is nominally five minutes each. All persons who wish to speak at the meeting must sign in legibly at the registration desk. Speakers who wish to expand on their oral statements are invited to submit a written statement to the Veterans' Advisory Board on Dose Reconstruction at 801 N. Quincy Street, Suite 700, Arlington, VA 22203.

Dated: February 24, 2012.
Aaron Siegel,
Alternative OSD Federal Register Liaison Officer, Department of Defense.

[FR Doc. 2012-4898 Filed 2-29-12; 8:45 am]

BILLING CODE 5001-06-P